DEPARTMENT OF AGRICULTURE

Forest Service

RIN 0596-AC02

National Forest System Land Management Planning Directives

Correction

In notice document 05-5652 beginning on page 14637 in the issue of Wednesday, March 23, 2005, make the following correction:

On page 14637, in the first column, under the ADDRESSES heading, in the seventh and eighth lines, the e-mail address should read, “planningdirectives @contentanalysisgroup.com.”

[FR Doc. C5-5652 Filed 3-31-05; 8:45 am]

BILLING CODE 1505-01-D

DEPARTMENT OF DEFENSE

Department of the Army

NAF Contracting Regulation, AR 215-4

Correction

In notice document 05-5925 appearing on page 15297 in the issue of Friday, March 25, make the following corrections:

1. On page 15297, in the first column, under the FOR FURTHER INFORMATION CONTACT heading, in the second line, “Maary” should read “Mary.”

2. In the second column, in the second full paragraph, under Regulatory Flexibility Act:, in the third line, “maning” should read “meaning.”

[FR Doc. C5-5925 Filed 3-31-05; 8:45 am]

BILLING CODE 1505-01-D

DEPARTMENT OF JUSTICE

Antitrust Division

Notice Pursuant to the National Cooperative Research and Production Act of 1933—Petroleum Environmental Research Forum (“PERF”) Project No. 2003-01, “Mercury Cooperative ”

Correction

In notice document 05-3924 beginning on page 9980 in the issue of Tuesday, March 1, 2005, make the following corrections:

1. On page 9980, in the third column, in the second paragraph, in the ninth line, “Sugerland, TX” should read “Sugarland, TX”.

2. On the same page, in the same column, in the same paragraph, in the 12th line, “crate” should read “create”.

[FR Doc. C5-3924 Filed 3-31-05; 8:45 am]

BILLING CODE 1505-01-D

DEPARTMENT OF JUSTICE

Antitrust Division

Notice Pursuant to the National Cooperative Research and Production Act of 1993—Airborne Law Enforcement Accreditation Commission, Inc.

Correction

In notice document 05-5888 appearing on page 15350 in the issue of Friday, March 25, 2005, make the following correction:

On page 15350, in the third column, in the first full paragraph, in the second line from the bottom, “operational safety” should read “operational and safety.

[FR Doc. C5-5888 Filed 3-31-05; 8:45 am]

BILLING CODE 1505-01-D